DEPARTMENT OF ENERGY

Federal Energy Regulatory Commission

Combined Notice of Filings #1

November 10, 2009.

Take notice that the Commission received the following electric corporate filings:

Docket Numbers: EC10-15-000.

Applicants: West Georgia Generating Company, LLC; DeSoto County Generating Company, LLC; Broadway Gen Funding, LLC; Southern Power Company.

Description: West Georgia Generating Co, LLC et al. (Joint Applicants) submits the joint application for authorization under Section 203 of the Federal Power Act and Request for Expedited and Privileged Treatment.

Filed Date: 11/02/2009.

Accession Number: 20091105-0154.

Comment Date: 5 p.m. Eastern Time on Thursday, November 30, 2009.

Take notice that the Commission received the following electric rate filings:

Docket Numbers: ER01-3121-022; ER02-2085-017; ER02-417-021; ER02-418-021; ER03-1326-020; ER03-296-024; ER03-416-024; ER03-951-024; ER04-94-021; ER05-1146-021; ER05-1262-024; ER05-332-021; ER05-365-021; ER05-481-022; ER06-1093-020; ER06-200-020; ER07-1378-013; ER07-195-016; ER07-242-015; ER07-254-014; ER07-287-014; ER07-460-011; ER08-387-011; ER08-912-008; ER08-933-008; ER09-1284-003; ER09-1285-002; ER09-1723-002; ER09-279-004; ER09-281-003; ER09-282-004; ER09-30-005; ER09-31-005; ER09-32-006; ER09-382-004; ER08-934-009; ER07-240-015.

Applicants: Klamath Energy LLC; Northern Iowa Windpower LLC; Phoenix Wind Power LLC; Klamath Generation LLC; Colorado Green Holdings, LLC; Flying Cloud Power Partners, LLC; Klondike Wind Power LLC; Moraine Wind LLC; Mountain View Power Partners III, LLC; Shiloh I Wind Project LLC; Flat Rock Windpower LLC; Klondike Wind Power II LLC; Elk River Windfarm LLC; Trimont Wind I LLC; Flat Rock Windpower II LLC; Big Horn Wind Project LLC; Providence Heights Wind, LLC; Locust Ridge Wind Farm, LLC; MinnDakota Wind LLC; Casselman Windpower, LLC; Klondike Wind Power III LLC; Dillon Wind LLC; Atlantic Renewables Projects II LLC; Iberdrola Renewables MBR Sellers; Lempster Wind, LLC; Rugby Wind, LLC; Streator-Cayuga Ridge Wind Power, LLC; Dry Lake Wind Power, LLC; Buffalo Ridge I LLC; Pebble Springs Wind, LLC; Moraine Wind II LLC; Elm Creek Wind, LLC; Farmers City Wind, LLC; Barton Windpower LLC; Hay Canyon Wind LLC; Locust Ridge Wind Farm II, LLC; Twin Buttes Wind LLC.

Description: Quarterly Report Pursuant to 18 CFR 35.42(d)of Iberdrola Renewables MBR Sellers.

Filed Date: 10/30/2009.

Accession Number: 20091030-5183.

Comment Date: 5 p.m. Eastern Time on Friday, November 20, 2009.

Docket Numbers: ER05-764-005.

Applicants: MATL LLP, Montana Alberta Tie Ltd.

Description: Notice of Non-Material Change in Facts of Montana Alberta Tie Ltd. and MATL LLP.

Filed Date: 11/09/2009.

Accession Number: 20091109-5086.

Comment Date: 5 p.m. Eastern Time on Monday, November 30, 2009.

Docket Numbers: ER10-149-000.

Applicants: Elk City Wind, LLC.

Description: Request for authorization to sell energy and capacity at market-based rates, and waiver of the 60-day notice requirement re Elk City Wind, LLC.

Filed Date: 11/02/2009.

Accession Number: 20091104-0032.

Comment Date: 5 p.m. Eastern Time on Monday, November 23, 2009.

Docket Numbers: ER10-224-000.

Applicants: E. ON. U.S. LLC.

Description: E. ON. US. LLC submits a pro forma Emergency Energy Transaction Protocol Agreement.

Filed Date: 11/05/2009.

Accession Number: 20091106-0090.

Comment Date: 5 p.m. Eastern Time on Friday, November 27, 2009.

Docket Numbers: ER10-227-000.

Applicants: Nevada Power Company.

Description: Nevada Power Company submits amendments to the Related Power Purchase Agreement between Sierra Pacific Power Company.

Filed Date: 11/05/2009.

Accession Number: 20091106-0093.

Comment Date: 5 p.m. Eastern Time on Friday, November 27, 2009.

Docket Numbers: ER10-230-000.

Applicants: Kansas City Power & Light Company, KCP&L Greater Missouri Operations Company.

Description: Kansas City Power & Light Company et al. submits revised tariff sheets for the GMO open access transmission tariff, revised tariff sheets for schedule 1 etc.

Filed Date: 11/06/2009.

Accession Number: 20091110-0047.

Comment Date: 5 p.m. Eastern Time on Friday, November 27, 2009.

Docket Numbers: ER10-234-000.

Applicants: Arizona Public Service Company.

Description: Arizona Public Service Company submits Amendment 1 and 2 Contract 87-BCA-10031, as Restated and Superseded et al. designated as APS' FERC Electric Rate 217 etc.

Filed Date: 11/10/2009.

Accession Number: 20091110-0046.

Comment Date: 5 p.m. Eastern Time on Tuesday, December 01, 2009.

Docket Numbers: ER10-236-000.

Applicants: Ohms Energy Company, LLC.

Description: Ohms Energy Company, LLC submits Petition for Acceptance of Initial Tariff, Waivers and Blanket Authority.

Filed Date: 11/05/2009.

Accession Number: 20091106-0089.

Comment Date: 5 p.m. Eastern Time on Friday, November 27, 2009.

Take notice that the Commission received the following electric securities filings:

Docket Numbers: ES10-2-001.

Applicants: Trans-Allegheny Interstate Line Company.

Description: Trans-Allegheny Interstate Line Company, Additional Information to Section 204 Application (2009).

Filed Date: 11/09/2009.

Accession Number: 20091109-5150.

Comment Date: 5 p.m. Eastern Time on Thursday, November 19, 2009.

Take notice that the Commission received the following public utility holding company filings:

Docket Numbers: PH10-2-000.

Applicants: ITC Holdings Corp., et al.

Description: FERC-65B Joint Waiver Notification of ITC Holdings Corp.

Filed Date: 11/06/2009.

Accession Number: 20091106-5150.

Comment Date: 5 p.m. Eastern Time on Friday, November 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-27923 Filed 11-19-09; 8:45 am]

BILLING CODE 6717-01-P